DEPARTMENT OF COMMERCE

Census Bureau

Proposed Information Collection; Comment Request; Shipper's Export Declaration (SED)/Automated Export System (AES) Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 1, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Dale C. Kelly, Chief, Regulations, Outreach and Education Branch, U.S. Census Bureau, 4600 Silver Hill Road, Room 6K125, Washington, DC 20233-6700, (301) 763-6937, by fax (301) 763-6638 (or via the Internet at dale.c.kelly@census.gov).

SUPPLEMENTARY INFORMATION:

I. Abstract

The Shipper's Export Declaration (SED), Commerce Form 7525-V, and the electronic equivalent, the Automated Export System (AES), are instruments used for collecting export trade information. The data collected from these sources are compiled by the U.S. Census Bureau and functions as the basis for the official U.S. export trade statistics. These statistics are used to determine the balance of international trade, and are also designated for use as a principal economic indicator. Title 13, United States Code (U.S.C.), Chapter 9, Section 301 authorizes the Census Bureau to collect, compile and publish export trade data. Title 15, Code of Federal Regulations, part 30, contains the regulatory provisions for preparing and filing the SED or the AES record. These data are used in the development of U.S. Government policies that affect the economy. These data also enable U.S. businesses to develop practical export marketing strategies as well as provide a means for the assessment of the impact of exports on the domestic economy. The data collected from the SED and the AES record are also used for export control purposes under Title 50, U.S.C., Export Administration Act, to detect and prevent the export of certain items by unauthorized parties or to unauthorized destinations or end users.

On November 29, 1999, the President signed into law the Consolidated Appropriations Act of 1999, which authorized the Secretary of Commerce to require mandatory electronic filing of items on the Commerce Control List (CCL) and the U.S. Munitions List (USML). The requirement to implement this process went into effect October 18, 2003. On July 29, 2003, the President signed Executive Order 13312, which executed prohibitions to Public Law 108-19, the Clean Diamond Trade Act thereby authorizing the mandatory electronic filing of rough diamonds. Implementation for this process went into effect October 20, 2003. On September 30, 2002, the President signed into law the Foreign Relations Authorization Act, Public Law 107-228. This law authorizes the Secretary of Commerce, with the concurrence of the Secretary of State and the Secretary of Homeland Security, to publish regulations in the Federal Register detailing that upon the effective date of these regulations, all persons who are required to file export information under Title 13, U.S.C., Chapter 9, file such information through the AES and there will no longer be provisions made for manual filing thereafter. On October 22, 2003, the Census Bureau published a Notice of Proposed Rulemaking in the Federal Register (68 FR 60301) announcing the Census Bureau's intent to propose the rule mandating electronic filing through the AES of all information on export shipments that require the filing of a SED and allowed the public to comment on this subject. Once concurrence is received from all parties involved, the Census Bureau intends to publish a Final Rulemaking, which will implement the provisions of Public Law 107-228 requiring the mandatory electronic filing of export information via the AES.

II. Method of Collection

A paper SED or electronic AES record is required, with certain exceptions, for all export shipments valued more than $2,500 from the United States, including Foreign Trade Zones located therein, Puerto Rico, and the U.S. Virgin Islands to foreign countries; for exports between the United States and Puerto Rico; and for exports to the U.S. Virgin Islands from the United States or Puerto Rico. The AES record information is also required for the export of rough diamonds and all exports requiring a license from the Bureau of Industry and Security, a license or license exception from the Department of State, or other government agency, regardless of value, unless exempted from the requirement for filing AES information by the licensing government agency. The SED/AES program is unique among Census Bureau statistical collections since it is not sent to respondents to solicit responses, as is the case with surveys. Filing export information via the SED or AES is a mandatory process under Title 13, Chapter 9, U.S.C. The Census Bureau has seen a progressive growth in the number of electronic filers, with a comparable decrease in the number of the paper SED filers. For example, the requirements to file export information through the AES for all USML and CCL shipments has resulted in the elimination of more than 536,000 paper SEDs annually. Exporters can access the AES via the Census Bureau's free Internet-based system, AESDirect, or they can integrate the AES into their company's computer network and file directly with the U.S. Customs and Border Protection (CBP). Exporters may also download the SED, Commerce Form 7525-V, from the Internet and print it on the required “buff” colored paper.

For exports to Canada, a Memorandum of Understanding (MOU) signed by the CBP, Canada Border Services Agency, and statistical agencies in the United States and Canada enables the United States to substitute Canadian import statistics for U.S. export statistics. Similarly, in accordance with the MOU, Canada substitutes U.S. import statistics for Canadian exports to the United States. This exchange of data eliminates the requirement for U.S. exporters to file any information with the U.S. Government for exports of nonlicensed shipments to Canada, thus resulting in the elimination of over ten million paper SEDs annually. Export shipments to Canada that require a license must be filed through the AES. Also, export shipments from the United States through Canada destined to a country other than Canada require a SED or AES record.

U.S. principal parties in interest (USPPI) or authorized agents file individual paper SEDs with exporting carriers at the time export shipments leave the United States. For the AES, USPPIs or authorized agents file export data electronically with the Census Bureau or the CBP. Carriers submit paper SED documents to CBP officials when the carrier departs from the United States and the CBP then transmits the export information to the Census Bureau for statistical processing.

The AES enables the government to significantly improve the quality, timeliness, and coverage of export statistics. Since July 1995, the Census Bureau and the CBP have utilized the AES to improve the reporting of export trade information, customer service, compliance with and enforcement of export laws, and provide paperless reports of export information. The AES also enables the U.S. Government to increase its ability to prevent the export of certain items by unauthorized parties to unauthorized destinations and end users through electronic filing.

III. Data

OMB Control Number: 0607-0152.

Form Number: 7525-V, Automated Export System (AES) submissions.

Type of Review: Regular submission.

Affected Public: Exporters, Forwarding agents, Export Carriers.

Estimated Number of Respondents: 239,094.

Estimated Time per Response: 11 minutes for 7525-V; and 3 minutes for AES submission.

Estimated Total Annual Burden Hours: 817,941 (SEDs, 72,280) (AES, 745,661).

Estimated Total Annual Cost: $14,592,067.

Respondent's Obligation: Mandatory.

Legal Authority: Title 13 United States Code, Chapter 9; Public Law 107-228 Foreign Relations Authorization Act.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 27, 2007.
Gwellnar Banks,
Management Analyst, Office of the Chief Information Officer.

[FR Doc. E7-23311 Filed 11-30-07; 8:45 am]

BILLING CODE 3510-07-P